DEPARTMENT OF THE INTERIOR

Bureau of Land Management

[LLORW00000.L10200000.DF0000.19XL1109AF.LXSSH1070000.HAG 19-0046]

Notice of the John Day-Snake Resource Advisory Council Planning Subcommittee Meeting Schedule

AGENCY: Bureau of Land Management, Interior.

ACTION: Notice of Planning Subcommittee public meeting schedule.

SUMMARY: In accordance with the Federal Land Policy and Management Act of 1976 and the Federal Advisory Committee Act of 1972, the U.S. Department of the Interior, Bureau of Land Management (BLM) the John Day-Snake Resource Advisory Council (RAC) Planning Subcommittee will meet as indicated below.

DATES: The RAC Planning Subcommittee is announcing the availability of scheduled conference calls. The conference call line will be available for the John Day-Snake RAC subcommittee members and designated Federal liaisons on Thursday, December 19, 2019, from 6 p.m. to 8 p.m. and January 22, 2020, from 6 p.m. to 8 p.m.

ADDRESSES: The Subcommittee teleconference number is toll-free and will be published in the agenda on the RAC web page at least 10 days in advance of the call on the RAC web page at: https://www.blm.gov/get-involved/resource-advisory-council/near-you/oregon-washington/john-day-rac.

FOR FURTHER INFORMATION CONTACT: Lisa Clark; Public Affairs Officer; 3050 NE 3rd Street; Prineville, OR 97754; 541-416-6864; lmclark@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The RAC provides recommendations to the Secretary of the Interior on behalf of the BLM and the U.S. Forest Service that identify beneficial ideas and solutions to help shape decisions concerning the planning and management of central and eastern Oregon public lands resources. RACs serve as sounding boards for initiatives, regulatory proposals, and policy changes. Each RAC consists of 10 to 15 citizens that represent diverse interests shared with their community members. RACs play a key role in allowing the BLM to continue to be a good neighbor in the communities we serve.

The meeting scheduled for November 14, 2019, will include a discussion regarding on-going planning in the BLM's Prineville and the Thirtymile Management Plan. The metting scheduled for December 19, 2019, will discuss the Prineville District BLM Lower Deschutes Fee Proposal and public outreach.

The Planning Subcommittee was established to gather information, conduct research, and analyze relevant issues and facts on selected topics for consideration by the RAC. The Subcommittee's primary goal is to provide information to the RAC that allows them to better respond to time-sensitive issues, such as providing responses to an environmental document within the public comment period. No decisions are made at the subcommittee level.

The Designated Federal Officer will attend the call, take minutes, and publish these minutes on the RAC web page at https://www.blm.gov/get-involved/resource-advisory-council/near-you/oregon-washington/john-day-rac.

All calls/meetings are open to the public in their entirety. The public may send written comments to the Subcommittee in response to material presented on the call to be forwarded to the RAC for consideration. Comments can be mailed to: BLM Prineville District; Attn. Lisa Clark; 3050 NE 3rd Street; Prineville, OR 97754.

Before including your address, phone number, email address, or other personal identifying information in your comments, please be aware that your entire comment—including your personal identifying information—may be made publicly available at any time. While you can ask us in your comment to withhold your personal identifying information from public review, we cannot guarantee that we will be able to do so.

Authority: 43 CFR 1784.4-2.

Dennis C. Teitzel,
Prineville District Manager.

[FR Doc. 2019-24449 Filed 11-7-19; 8:45 am]

BILLING CODE 4310-33-P